CORPORATION FOR NATIONAL AND COMMUNITY SERVICE

45 CFR Part 2553

RIN 3045-AA31

Retired and Senior Volunteer Program; Amendments

AGENCY: Corporation for National and Community Service.

ACTION: Final rule.

SUMMARY: The amendments to the Regulation governing the Retired and Senior Volunteer Program include: improving access of persons with limited English speaking proficiency; and increasing sponsor flexibility to use project resources as needed.

DATES: These regulations take effect February 14, 2002.

FOR FURTHER INFORMATION CONTACT: John B. Keller, 202-606-5000, ext. 285.

SUPPLEMENTARY INFORMATION: The Corporation published a notice of proposed rulemaking (NPRM) for the Retired and Senior Volunteer Program 45 CFR part 2553 in the Federal Register at 66 FR 56793, November 13, 2001.

Summary of Main Comments

In response to the Corporation's invitation in the NPRM, the Corporation received 41 letter and/or email responses. Of these, 30 were in full support of the proposed rule, 3 sought clarification, and 8 opposed the proposed rule. The eight opposing the proposed rule voiced specific objection to the following Section:

Section 2553.72 (e), How much of the grant must be budgeted to pay volunteer expenses or cost reimbursements?

Comments: The eight opposing the proposed rule to eliminate the requirement that cost reimbursements for RSVP volunteers be an amount equal to at least 25 percent of the Corporation funds, objected because they feared it would permit the sponsor to use RSVP funds for purposes unrelated to RSVP.

Response: The Corporation response is that all funds approved in the grant award must be used for purposes set forth in the grant application, and may not be used for purposes unrelated to RSVP.

Impact of Various Acts and Executive Orders

After carefully reviewing the changes implemented by this amendment, it has been determined that (1) This is not a significant regulatory action under section 3(f)(4) of Executive Order 12866, “Regulatory Planning and Review”; and (2) The Regulatory Flexibility Act does not apply because there is no “significant economic impact on a substantial number of small entities”; (3) The Unfunded Mandates Act of 1995 does not apply because the amendment does not result in any annual expenditures of $100 million by State, local, Indian Tribal governments or the private sector; (4) The Paperwork Reduction Act does not apply because the amendments do not impose any additional reporting or record-keeping requirements; (5) The Small Business Regulatory Enforcement Fairness Act of 1996 does not apply because it is not a major rule as defined by section 251 of the Small Business Regulatory Enforcement Fairness Act of 1996, and would not result in an annual effect on the economy of $100 million or more; result in an increase in cost or prices; or have significant adverse effects on competition, employment, investment, productivity, innovation, or on the ability of United States-based companies to compete with foreign-based companies in domestic and export markets; and (6) Executive Order 13132: Federalism does not apply because it would not have substantial direct effects on the States or the relationship between the national government and the States.

List of Subjects in 45 CFR Part 2553

Aged, Grant programs—social programs, Volunteers.

For the reasons set forth in the preamble, 45 CFR Part 2553 is revised to read as follows:

PART 2553—THE RETIRED AND SENIOR VOLUNTEER PROGRAM

1. The authority citation for part 2553 continues to read as follows:

Authority: 42 U.S.C. 4950 et seq.

2. Revise § 2553.23(c)(2)(iv) to read as follows:

§ 2553.23 What are a sponsor's program responsibilities?

* * * * *

(c) * * *

(2) * * *

(iv) That states the station assures it will not discriminate against RSVP volunteers or in the operation of its program on the basis of race; color; national origin, including individuals with limited English proficiency; sex; age; political affiliation; religion; or on the basis of disability, if the participant or member is a qualified individual with a disability; and

* * * * *

§ 2553.72 [Amended]

3. In § 2553.72, remove paragraph (e).

4. Revise § 2553.73(i) to read as follows:

§ 2553.73 What are grants management requirements?

* * * * *

(i) Written Corporation State Office approval/concurrence is required for a change in the approved service area.

Dated: February 8, 2002.
Tess Scannell,
Director, National Senior Service Corps.

[FR Doc. 02-3601 Filed 2-13-02; 8:45 am]

BILLING CODE 6050-$$-P